ENVIRONMENTAL PROTECTION AGENCY

[FRL-6957-6]

Agency Information Collection Activities: Proposed Collection; Comment Request; Reporting and Recordkeeping Requirements for Universal Waste Handlers and Destination Facilities

AGENCY: Environmental Protection Agency (EPA).

ACTION: Notice.

SUMMARY: In compliance with the Paperwork Reduction Act (44 U.S.C. 3501 et seq.), this document announces that EPA is planning to submit the following continuing Information Collection Request (ICR) to the Office of Management and Budget (OMB): Reporting and Recordkeeping Requirements for Universal Waste Handlers and Destination Facilities, ICR Number 1597.04, OMB Control Number 2050-0145, Expiration Date 9/30/01 (the general universal waste ICR). This ICR also consolidates the Reporting and Recordkeeping Requirements for Generators of Hazardous Waste Lamps ICR (formerly having ICR Number 1699.02, OMB Control Number 2050-0164, Expiration Date 9/30/02) into the general universal waste rule ICR. EPA is doing this consolidation because hazardous waste lamps are a new federal universal waste and their reporting and recordkeeping requirements are covered in the requirements for universal waste handlers. Before submitting the ICR to OMB for review and approval, EPA is soliciting comments on specific aspects of the proposed information collection as described below.

DATES: Comments must be submitted on or before May 29, 2001.

ADDRESSES: Commenters must send an original and two copies of their comments referencing docket number F-2001-UWHP-FFFFF to RCRA Docket Information Center, Office of Solid Waste (5305G), U.S. Environmental Protection Agency, Ariel Rios Building, 1200 Pennsylvania Ave, NW., Washington, DC 20460. Hand deliveries of comments should be made to the Arlington, VA, address listed below. Comments may also be submitted electronically by sending electronic mail through the Internet to: rcra-docket@epamail.epa.gov. Comments in electronic format should also be identified by the docket number F-2001-UWHP-FFFFF. All electronic comments must be submitted as an ASCII file avoiding the use of special characters and any form of encryption.

The official record for this action will be kept in paper form. Accordingly, EPA will transfer all comments received electronically into paper form and place them in the official record, which will also include all comments submitted directly in writing. The official record is the paper record maintained in the RCRA Information Center (the RIC address is listed above in this section).

Commenters should not submit any confidential business information (CBI) electronically. An original and two copies of CBI must be submitted under separate cover to: RCRA CBI Document Control Officer, Office of Solid Waste (5303W), U.S. Environmental Protection Agency, Ariel Rios Building, 1200 Pennsylvania Ave, NW., Washington, DC 20460.

Public comments and supporting materials are available for viewing in the RCRA Information Center (RIC), located at Crystal Gateway I, First Floor, 1235 Jefferson Davis Highway, Arlington, VA. The RIC is open from 9:00 a.m. to 4:00 p.m. Monday through Friday, excluding federal holidays. To review docket materials, it is recommended that the public make an appointment by calling (703) 603-9230. The public may copy a maximum of 100 pages from any regulatory docket at no charge. Additional copies are $0.15/page. This notice and the supporting documents that detail the Reporting and Recordkeeping Requirements for Universal Waste Handlers and Destination Facilities ICR are also available electronically. See the SUPPLEMENTARY INFORMATION section for information on accessing them.

FOR FURTHER INFORMATION CONTACT: Tab Tesnau by phone at (703) 605-0636, by facsimile at (703) 308-8638, by mail at the Office of Solid Waste (5303W), U.S. Environmental Protection Agency, Ariel Rios Building, 1200 Pennsylvania Ave, NW., Washington, DC 20460, or by e-mail at tesnau.tab@epamail.epa.gov.

SUPPLEMENTARY INFORMATION: Internet Availability: Today's notice and the supporting documents that detail the Reporting and Recordkeeping Requirements for Generators of Hazardous Waste Lamps ICR are available on the Internet. Follow these instructions to access this information electronically:

WWWURL: http://www.epa.gov/epaoswer/hazwaste/id/univwast.htm

FTP: ftp.epa.gov

Login: anonymous

Password: your Internet e-mail address

Path:/pub/epaoswer

Affected entities: Entities potentially affected by this action are waste handlers and destination facilities that collect and manage certain hazardous waste batteries, certain hazardous waste pesticides, hazardous waste mercury-containing thermostats, and hazardous waste lamps.

Title: Reporting and Recordkeeping Requirements for Universal Waste Handlers and Destination Facilities, OMB Control number 2050-0145, EPA ICR number 1597.04, expiration date: 9/30/2001.

Abstract: EPA promulgated the Universal Waste standards at 40 CFR part 273. The Universal Waste standards govern the collection and management of widely generated wastes known as universal wastes. EPA has identified hazardous waste batteries, certain hazardous waste pesticides, hazardous waste thermostats, and hazardous waste lamps as universal wastes. Other wastes may be added to the universal waste federal program if EPA determines such regulation is appropriate. Additional wastes can be added by states as a “state-only” waste. The regulations allow universal waste handlers to manage universal wastes under a reduced set of regulatory requirements. Destination facilities, on the other hand, (i.e., those facilities accepting universal waste for treatment, recycling, or disposal) remain subject to their regular requirements. The universal waste regulations at part 273 were promulgated by EPA under the authority of Subtitle C in RCRA.

This information collection targets the collection of information for the following reporting or recordkeeping requirements: notification, labeling and marking, storage time limitations, off-site shipments, tracking of universal waste shipments, and petitions to include other waste categories at the federal level. It is necessary for EPA to collect universal waste information to ensure that universal waste is collected and managed in a manner that is protective of human health and the environment. EPA requires, among other things, Large Quantity Handlers of Universal Waste to notify the Agency of their universal waste management activities so that EPA can obtain general information on these handlers, and to facilitate enforcement of the regulations at part 273. In addition, EPA requires universal waste handlers to record the date on which they begin storing universal waste on-site to ensure that such accumulation is performed responsibly. EPA also requires certain universal waste handlers to track receipt of universal waste shipments as well as shipments sent off-site to ensure that universal waste is properly treated, recycled, and disposed. Finally, the submission of petitions in support of regulating other wastes or waste categories under part 273 helps EPA (1) to compile information on these wastes, and (2) to determine whether regulation as a universal waste is appropriate.

An agency may not conduct or sponsor, and a person is not required to respond to, a collection of information unless it displays a currently valid OMB control number. The OMB control numbers for EPA's regulations are listed in 40 CFR part 9 and 48 CFR Chapter 15.

EPA would like to solicit comments to: (i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: The bottom line annual respondent burden is estimated to be 218,168 hours with a cost of approximately $10,285,683. The bottom line burden to respondents over the three-year period covered by this ICR is estimated at 654,504 hours, with a cost of approximately $30,857,049.

The average public recordkeeping burden for Small Quantity Handlers of Universal Waste (SQHUWs) under this collection of information is estimated to be 1.4 hours per year. This estimate includes time for reading the regulations, labeling universal waste, and maintaining records demonstrating the length of storage. The reporting burden for SQHUWs (for submitting notices of rejected or illegal universal waste shipments) is expected to be negligible. The recordkeeping burden for Large Quantity Handlers of Universal Waste (LQHUWs) under this collection of information is estimated to be 2.8 hours per year. This estimate includes time for reading the regulations, labeling universal waste, maintaining records demonstrating the length of storage, and maintaining records of universal waste received and sent. The reporting burden for LQHUWs is estimated to be 0.5 hours per year. This estimate includes time for notifying EPA of universal waste management, and preparing and submitting notices of rejected or illegal universal waste shipments. The recordkeeping burden for destination facilities is estimated to be 183.1 hours per year. This estimate includes time for reading the regulations and maintaining records of universal waste received. The reporting burden for destination facilities is estimated to be 18.4 hours per year. This estimate includes time for preparing and submitting notices of rejected or illegal universal waste shipments.

This ICR estimates a total respondent universe of 129,839 LQHUWs, SQHUWs, and destination facilities (118,367 SQHUWs, 11,414 LQHUWs, and 58 Destination Facilities). The frequency of response is on an as needed basis.

Burden means the total time, effort, or financial resources expended by persons to generate, maintain, retain, or disclose or provide information to or for a federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: March 14, 2001.
Elizabeth A Cotsworth,
Director, Office of Solid Waste.

[FR Doc. 01-7517 Filed 3-26-01; 8:45 am]

BILLING CODE 6560-50-P